DEPARTMENT OF ENERGY

Federal Energy Regulatory Commission

Combined Notice of Filings

Take notice that the Commission has received the following Natural Gas Pipeline Rate and Refund Report filings:

Filings Instituting Proceedings

Docket Numbers: RP95-408-085.

Applicants: Columbia Gas Transmission, LLC.

Description: Annual Report on Sharing Profits from Base Gas Sales with Customers of Columbia Gas Transmission, LLC.

Filed Date: 5/1/18.

Accession Number: 20180501-5441.

Comments Due: 5 p.m. ET 5/14/18.

Docket Numbers: RP18-784-001.

Applicants: Columbia Gas Transmission, LLC.

Description: Tariff Amendment: Virginia Power Amended Filing to be effective 5/1/2018.

Filed Date: 5/9/18.

Accession Number: 20180509-5104.

Comments Due: 5 p.m. ET 5/21/18.

Docket Numbers: RP18-809-000.

Applicants: Trailblazer Pipeline Company LLC.

Description: § 4(d) Rate Filing: Neg Rate 2018-05-09 Citadel A1 to be effective 5/9/2018.

Filed Date: 5/9/18.

Accession Number: 20180509-5103.

Comments Due: 5 p.m. ET 5/21/18.

Docket Numbers: RP18-762-001.

Applicants: El Paso Natural Gas Company, L.L.C.

Description: Tariff Amendment: Supplement to Clarifications to Request for Services and Pro Forma Filing to be effective 6/1/2018.

Filed Date: 5/10/18.

Accession Number: 20180510-5001.

Comments Due: 5 p.m. ET 5/22/18.

Docket Numbers: RP18-810-000.

Applicants: Natural Gas Pipeline Company of America.

Description: § 4(d) Rate Filing: Update Filing—Removal of Expired Agreements May 2018 to be effective 6/11/2018.

Filed Date: 5/10/18.

Accession Number: 20180510-5000.

Comments Due: 5 p.m. ET 5/22/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2018.
Nathaniel J. Davis, Sr.,
Deputy Secretary.

[FR Doc. 2018-10398 Filed 5-15-18; 8:45 am]

BILLING CODE 6717-01-P